ENVIRONMENTAL PROTECTION AGENCY

[EPA-R05-OW-2009-0932; FRL-9536-1]

Information Collection Request Submitted to OMB for Review and Approval: Comment Request; Great Lakes Accountability System (Reinstatement)

AGENCY: Environmental Protection Agency (EPA).

ACTION: Notice.

SUMMARY: The Environmental Protection Agency has submitted an information collection request (ICR), Great Lakes Accountability System (Reinstatement) (EPA ICR No. 2379.02, OMB Control No. 2005-0001) to the Office of Management and Budget (OMB) for review and approval in accordance with the Paperwork Reduction Act (44 U.S.C. 3501 et seq.). This is a request to reinstate the ICR. Public comments were previously requested via the Federal Register (78 FR 21937) on April 12, 2013 during a 60-day comment period. No comments were received. This notice allows for an additional 30 days for public comments. A more complete description of the ICR is given below, including its estimated burden and cost to the public. An Agency may not conduct or sponsor and a person is not required to respond to a collection of information unless it displays a currently valid OMB control number.

DATES: Additional comments must be submitted on or before October 7, 2013.

ADDRESSES: Submit your comments, referencing Docket ID No. EPA-R05-OW-2009-0932 to (1) EPA online using www.regulations.gov (our preferred method) or by mail to: Environmental Protection Agency, Great Lakes National Program Office, Attn: Rita Cestaric, 77 W. Jackson, Chicago, IL 60604 and (2) OMB via email to oira_submission@omb.eop.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Rita Cestaric, Great Lakes National Program Office, Environmental Protection Agency, 77 W. Jackson, Chicago, IL 60604; telephone number: (312) 886-6815; fax number: (312) 697-2014; email address: cestaric.rita@epa.gov.

SUPPLEMENTARY INFORMATION: Supporting documents, which explain in detail the information that the EPA will be collecting, are available in the public docket for this ICR. The docket can be viewed online at www.regulations.gov or in person at the EPA Great Lakes National Program Office, 77 West Jackson Boulevard, Chicago, Illinois 60604.

Abstract: In 2010, EPA, in concert with its federal partners, began implementation of the Great Lakes Restoration Initiative (GLRI) that was included in the Department of the Interior, Environment, and Related Agencies Appropriations Act, 2010 (Pub. L. 111-88) and subsequent appropriations. The GLRI invests funds in programs and projects strategically chosen to target the most significant environmental problems in the Great Lakes ecosystem. The legislation called for increased accountability for the GLRI and directed EPA to implement a process to track, measure, and report on progress. As part of this process, federal and non-federal entities receiving GLRI funds are required to submit detailed information on GLRI projects into the Great Lakes Accountability System (GLAS). The information is necessary to provide an accurate depiction of activities, progress, and results. Information is updated on a quarterly basis.

Form Numbers: None

Respondents/affected entities: Great Lakes Restoration Initiative Funding Recipients

Respondent's obligation to respond: Required for recipients of GLRI funds

Estimated number of respondents: 113

Frequency of response: Quarterly

Total estimated burden: 2,468 hours (per year). Burden is defined at 5 CFR 1320.03(b).

Total estimated cost: $140,076.16 (per year), which includes no capital investment or operation & maintenance costs.

Changes in Estimates: There is a decrease of 18,195 hours in the total respondent burden compared with the previous ICR. Overall, EPA has a better understanding of how long it takes respondents to complete forms and historical data to project new respondents and active projects over the next three years. Additionally, (1) there is a decrease in the number of respondents due to overestimated figures in the previous information collection; (2) the number of active grants will continue to decrease, as projects are completed and fewer new grants are awarded; and (3) the lower burden hours reflect increased respondent familiarity with the GLAS and the information collection.

John Moses,
Director, Collection Strategies Division.

[FR Doc. 2013-21723 Filed 9-5-13; 8:45 am]

BILLING CODE 6560-50-P